DEPARTMENT OF COMMERCE

National Oceanic and Atmospheric Administration

[RTID 0648-XE153]

New England Fishery Management Council; Public Meeting

AGENCY: National Marine Fisheries Service (NMFS), National Oceanic and Atmospheric Administration (NOAA), Commerce.

ACTION: Notice of public meeting.

SUMMARY: The New England Fishery Management Council's is convening a Scientific and Statistical Committee subpanel via webinar to consider actions affecting New England fisheries in the exclusive economic zone (EEZ). Recommendations from this group will be brought to the full Council for formal consideration and action, if appropriate.

DATES: This webinar will be held on Monday, August 19, 2024, beginning at 10 a.m.

ADDRESSES:

Webinar Registration information: https://nefmc-org.zoom.us/webinar/register/WN_6yKH4990TI24kHu_mOdgLg.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

A Scientific and Statistical Committee subpanel will convene to review and consider changes to the Atlantic sea scallop dredge survey sampling design and strata. The subpanel will be reviewing work by the Northeast Fisheries Science Center on the application of the Generalized Random Tessellation Stratified (GRTS) method to the Atlantic sea scallop dredge survey sampling design and strata to improve its statistical efficiency. In this review, the subpanel will consider the appropriateness of: (1) the GRTS method for determining strata and as a sampling design, and (2) the newly designed survey strata for use in scallop management. They will discuss other business as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: July 29, 2024.
Rey Israel Marquez,
Acting Deputy Director, Office of Sustainable Fisheries, National Marine Fisheries Service.

[FR Doc. 2024-17032 Filed 8-1-24; 8:45 am]

BILLING CODE 3510-22-P